DEPARTMENT OF THE INTERIOR

Bureau of Land Management

[CO-200-1651-DD]

Notice of Closure to Motorized Vehicles

AGENCY: Bureau of Land Management, Interior.

ACTION: Temporary Closure Order for Motorized Vehicle Travel.

SUMMARY: Notice is hereby given that effective March 3, 2000 certain public lands in Chaffee County, Colorado are closed to all types of motorized vehicle travel. The purpose of this closure is to prevent the development of unauthorized user-created trails, to prevent resource damage to soils and vegetation, and to prevent wildlife harassment. This closure is made under the authority of 43 CFR 8364.1.

EFFECTIVE DATES: This closure is effective March 3, 2000 and shall remain in effect until revised, revoked or amended.

ADDRESSES: Royal Gorge Field Office, 3170 East Main Street, Canon City, CO 81212; Telephone (719) 269-8500.

FOR FURTHER INFORMATION CONTACT: Levi D. Deike, Associate Field Office Manager or James R. Cunio, Forester.

SUPPLEMENTARY INFORMATION: The public lands affected by this temporary closure are identified as follows:

Chaffee County, Colorado, Sixth Principal Meridian: Cache Creek Area, located immediately west of Granite, Colorado; south of the Lake and Chaffee County boundary, north of Chaffee County Road 390 and west of U.S. Highway 24.

T.11S., R.79W. All public lands in that part of Section 31 lying west of the right-of-way of U.S. Highway 24.

T.11S., R.80W. All of the following described public lands lying south of the Chaffee and Lake County boundary, but not including those lands within the right of way for Chaffee County Roads 398, 398A, 398B, 398C or 398D.

Section 34 NE¼

Section 35 All

Section 36 All except the Granite Cemetary

T.12S., R.79W. All of the following described public lands lying west of the right-of-way of U.S. Highway 24 and north of Chaffee County Road 390.

Section 5 SW¼ except MS117

Section 6 All

Section 7 N½N½

Section 8 N½NW¼

T.12S., R.80W.

Section 1 All

Section 2 All except MS3615

This closure does not apply to emergency, law enforcement, and federal or other government vehicles while being used for official or emergency purposes, or to any vehicle whose use is expressly authorized or otherwise officially approved by BLM. Violation of this order is punishable by fine of up to $100,000 and/or imprisonment for up to one year as defined in 18 U.S.C. 3571. Notice of this closure and a detailed map will be posted at the Royal Gorge Field Office.

Donnie Sparks,
Royal Gorge Field Office Manager.

[FR Doc. 00-7143 Filed 3-22-00; 8:45 am]

BILLING CODE 4310-JB-P